DEPARTMENT OF DEFENSE

Office of the Secretary

[Docket ID: DOD-2011-OS-0018]

Proposed Collection; Comment Request

AGENCY: Headquarters U.S. Marine Corps, Division of Public Affairs, Community Relations Office, DoD.

ACTION: Notice.

SUMMARY: In compliance with Section 3506(c)(2)(A) of the Paperwork Reduction Act of 1995, the Headquarters U.S. Marine Corps, Division of Public Affairs, Community Relations Branch announces a proposed new public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by May 27, 2011.

ADDRESSES: You may submit comments, identified by docket number and title, by any of the following methods:

• Federal eRulemaking Portal: http://www.regulations.gov. Follow the instructions for submitting comments.

• Mail: Federal Docket Management System Office, 1160 Defense Pentagon, OSD Mailroom 3C843, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Headquarters U.S. Marine Corps, Division of Public Affairs, Community Relations Branch, Attn: Maj Stewart Upton, 3000 Pentagon, Room 4A532, Washington, DC 20350-3000, e-mail stewart.upton@usmc.mil, or call the Headquarters U.S. Marine Corps, Division of Public Affairs, Community Relations Branch at (703) 614-1034.

Title and OMB Number: Marine Week St. Louis Awareness Measurement Survey; OMB Number 0703-TBD.

Needs and Uses: The information collection requirement is necessary to obtain and record the official feedback of attendees for statistical use in order to evaluate the effectiveness and impact of the Marine Week program.

Affected Public: Individuals or households.

Annual Burden Hours: 125.

Number of Respondents: 1,500.

Responses per Respondent: 1.

Average Burden per Response: 5 Minutes.

Frequency: Annually.

SUPPLEMENTARY INFORMATION:

Summary of Information Collection

Respondents are patrons of the St. Louis, MO, community who are presently attending all events and programs during Marine Week St. Louis, 20-26 Jun 2011. The event locations defined under OMB number 0703-TBD where public information collection will take place are the Gateway Arch grounds at Jefferson National Expansion Memorial Park, Ballpark Village Field at Busch Stadium, and the Soldiers' Military Memorial Museum.

Dated: March 23, 2011.
Morgan F. Park,
Alternate OSD Federal Register Liaison Officer, Department of Defense.

[FR Doc. 2011-7174 Filed 3-25-11; 8:45 am]

BILLING CODE 5001-06-P